NATIONAL AERONAUTICS AND SPACE ADMINISTRATION

48 CFR Part 1813

RIN 2700-AC83

Re-Issuance of NASA FAR Supplement Part 1813

AGENCY: National Aeronautics and Space Administration.

ACTION: Final rule; correction.

SUMMARY: This document corrects the final rule document published April 22, 2004, which removed from the Code of Federal Regulations (CFR) those portions of the NASA FAR Supplement containing information that consists of internal Agency administrative procedures and guidance that does not control the relationship between NASA and contractors or prospective contractors and does not require publication for public comment. This document corrects the identification of one section in Part 1813 that is being removed from the CFR.

DATES: Effective Date: May 14, 2004.

FOR FURTHER INFORMATION CONTACT: Celeste Dalton, NASA, Office of Procurement, Contract Management Division (Code HK); (202) 358-1645; e-mail: Celeste.M.Dalton@nasa.gov.

SUPPLEMENTARY INFORMATION: NASA published a final rule in the Federal Register of April 22, 2004 (69 FR 21763), removing from the Code of Federal Regulations (CFR) those portions of the NASA FFAR Supplement containing information that consists of internal Agency administrative procedures and guidance. In part 1813 of that final rule, section 1813.301-73 was incorrectly listed as section 1813.701-73. This document corrects that error.

PART 1813—[CORRECTED]

In rule FR Doc. 04-9011 published on April 22, 2004, (69 FR 21763), on page 21764, in the listing of sections under part 1813, remove “1813.701-73” and add “1813.301-73” in its place.

Tom Luedtke,
Assistant Administrator for Procurement.

[FR Doc. 04-10920 Filed 5-13-04; 8:45 am]

BILLING CODE 7510-01-M